DEPARTMENT OF ENERGY

Environmental Management Site-Specific Advisory Board, Rocky Flats

AGENCY: Department of Energy.

ACTION: Notice of open meeting.

SUMMARY: This notice announces a meeting of the Environmental Management Site-Specific Advisory Board (EMSSAB), Rocky Flats. The Federal Advisory Committee Act (Pub. L. 92-463, 86 Stat. 770) requires that public notice of this meeting be announced in the Federal Register.

DATES: Thursday, June 2, 2005, 6 p.m. to 9 p.m.

ADDRESSES: College Hill Library, Room L-107, Front Range Community College, 3705 W. 112th Avenue, Westminster, Colorado.

FOR FURTHER INFORMATION CONTACT: Ken Korkia, Executive Director, Rocky Flats Citizens Advisory Board, 10808 Highway 93, Unit B, MV-72, Room 107B, Golden, CO 80403; telephone (303) 966-7855; fax (303) 966-7856.

SUPPLEMENTARY INFORMATION: Purpose of the Board: The purpose of the Board is to make recommendations to DOE in the areas of environmental restoration, waste management, and related activities.

Tentative Agenda

1. Presentation and Discussion on the Rocky Flats Integrated Monitoring Plan

2. Presentation and Discussion on Plans for Aerial Survey of Rocky Flats

3. Other Board business may be conducted as necessary

Public Participation: The meeting is open to the public. Written statements may be filed with the Board either before or after the meeting. Individuals who wish to make oral statements pertaining to agenda items should contact Ken Korkia at the address or telephone number listed above. Requests must be received at least five days prior to the meeting and reasonable provisions will be made to include the presentation in the agenda. The Deputy Designated Federal Officer is empowered to conduct the meeting in a fashion that will facilitate the orderly conduct of business. Individuals wishing to make public comment will be provided a maximum of five minutes to present their comments. This Federal Register notice is being published less than 15 days prior to the meeting date due to programmatic issues that had to be resolved prior to the meeting date.

Minutes: The minutes of this meeting will be available for public review and copying at the office of the Rocky Flats Citizens Advisory Board. To make arrangement, contact the Board by telephone at (303) 966-7855. Board meeting minutes are also posted on RFCAB's Web site within one month following each meeting at: http://ww.rfcab.org/Minutes.HTML.

Issued at Washington, DC on May 18, 2005.
Rachel M. Samuel,
Deputy Advisory Committee Management Officer.

[FR Doc. 05-10410 Filed 5-24-05; 8:45 am]

BILLING CODE 6450-01-P